NATIONAL INDIAN GAMING COMMISSION

Notice of Approval of Class III Tribal Gaming Ordinances

AGENCY: National Indian Gaming Commission.

ACTION: Notice.

SUMMARY: The purpose of this notice is to inform the public of class III gaming ordinances approved by the Chairman of the National Indian Gaming Commission.

EFFECTIVE DATE: This notice is effective upon date of publication in the Federal Register.

FOR FURTHER INFORMATION CONTACT: Ms. Frances Fragua, Office of General Counsel at the National Indian Gaming Commission, 202/632-7003, or by facsimile at 202/632-7066 (not toll-free numbers).

SUPPLEMENTARY INFORMATION: The Indian Gaming Regulatory Act (IGRA) 25 U.S.C. 2701 et seq., was signed into law on October 17, 1988. The IGRA established the National Indian Gaming Commission (Commission). Section 2710 of the IGRA authorizes the Commission to approved class II and class III tribal gaming ordinances. Section 2710(d)(2)(B) of the IGRA as implemented by 25 CFR 522.8 (58 FR 5811 (January 22, 1993)) requires the Commission to publish, in the Federal Register, approved class III gaming ordinances.

The IGRA requires all tribal gaming ordinances to contain the same requirements concerning ownership of the gaming activity, use of net revenues, annual audits, health and safety, background investigation and licensing of key employees. The Commission, therefore, believes that publication of each ordinance in the Federal Register would be redundant and result in unnecessary cost to the Commission. The Commission believes that publishing a notice of approval of each class III gaming ordinance is sufficient to meet the requirements of 25 U.S.C. 2710(d)(2)(B). Also, the Commission will make copies of approved class III ordinances available to the public upon request. Requests can be made in writing to the Office of General Counsel, National Indian Gaming Commission, (Attention: Legal Staff Assistant) 1441 L Street, NW., Suite 9100, Washington, DC 20005.

The following constitutes a consolidated list of all Tribes for which the Chairman has approved tribal gaming ordinances authorizing class III gaming.

1. Absentee-Shawnee Tribe of Oklahoma.

2. Agua Caliente Band of Cahuilla Indians.

3. Ak Chin Indian Community.

4. Alturas Indian Rancheria.

5. Assiniboine & Sioux Tribes of the Fort Peck Reservation.

6. Augustine Band of Mission Indians.

7. Bad River Band of Lake Superior Tribe of Chippewa .

8. Barona Band of Mission Indians.

9. Bay Mills Indian Community.

10. Bear River Band of the Rohnerville Rancheria.

11. Big Lagoon Rancheria.

12. Big Pine Paiute Tribe of the Owens Valley.

13. Big Valley Rancheria of Pomo Indians.

14. Bishop Paiute Tribe .

15. Blue Lake Rancheria.

16. Boise Forte Band of Chippewas.

17. Buena Vista Rancheria of Me-Wuk Indians.

18. Burns Paiute Tribe.

19. Cabazon Band of Mission Indians.

20. Caddo Indians Tribe of Oklahoma.

21. Cahto Tribe of the Laytonville Rancheria.

22. Cahuilla Band of Mission Indians.

23. Campo Band of Mission Indians.

24. Chemehuevi Indian Tribe.

25. Cheyenne and Arapaho Tribes of Oklahoma.

26. Cheyenne River Sioux Tribe.

27. Chickasaw Nation of Oklahoma.

28. Chicken Ranch Band of Me-Wuk Indians.

29. Chippewa Cree Tribe of the Rocky Boy's Reservation.

30. Chitimacha Tribe of Louisiana.

31. Citizen Band Potawatomi Indians of Oklahoma.

32. Cloverdale Rancheria of Pomo Indians of California.

33. Coast Indian Community of the Resighini Rancheria.

34. Cocopah Indian Tribe.

35. Coeur d'Alene Tribe.

36. Colorado River Indian Tribes.

37. Colusa Band of Wintun Indians.

38. Comanche Indian Tribe.

39. Confederated Salish and Kootenai Tribes of the Flathead Reservation.

40. Confederated Tribes and Bands of the Yakama.

41. Confederated Tribes of the Chehalis Reservation.

42. Confederated Tribes of the Colville Reservation.

43. Confederated Tribes of the Grand Ronde Community.

44. Confederated Tribes of the Siletz Indians of Oregon.

45. Confederated Tribes of the Umatilla Indian Reservation.

46. Confederated Tribes of the Warm Springs Reservation.

47. Coquille Indian Tribe.

48. Coushatta Indian Tribe of Louisiana.

49. Cow Creek Band of Umpqua Indians.

50. Coyote Valley Band of Pomo Indians.

51. Crow Creek Sioux Tribe.

52. Crow Indian Tribe.

53. Delaware Tribe of Indians.

54. Delaware Tribe of Western Oklahoma.

55. Dry Creek Rancheria.

56. Eastern Band of Cherokee Indians.

57. Eastern Shawnee Tribe of Oklahoma.

58. Elem Indian Colony.

59. Elk Valley Rancheria.

60. Ewiiaapaayp Band of Mission Indians.

61. Fallon Paiute-Shoshone Tribes.

62. Flandreau Santee Sioux Tribe.

63. Fond du Lac Reservation Business Committee.

64. Forest County Potawatomi Community.

65. Fort McDermitt Paiute-Shoshone Indian Tribe.

66. Fort McDowell Mohave-Apache Indian Community.

67. Fort Mojave Tribal Council.

68. Gila River Indian Community.

69. Grand Portage Band of Chippewa Indians.

70. Grand Traverse Band of Ottawa/Chippewa Indians.

71. Grindstone Indian Rancheria.

72. Hannahville Indian Community.

73. Ho-Chunk Nation.

74. Hoopa Valley Tribe.

75. Hopland Band of Pomo Indians.

76. Hualapai Tribe.

77. Iowa Tribe of Kansa and Nebraska.

78. Iowa Tribe of Oklahoma.

79. Jackson Rancheria Band of Miwuk Indians.

80. Jamestown S'Klallam Tribe.

81. Jena Band of Choctaw Indians.

82. Jicarilla Apache Tribe.

83. Kaibab Band of Paiute Indians.

84. Kalispel Tribe of Indians.

85. Keweenaw Bay Indian Community.

86. Kickapoo Nation of Kansas.

87. Kickapoo Traditional Tribe of Texas.

88. Kickapoo Tribe of Oklahoma.

89. Kiowa Tribe of Oklahoma.

90. Klamath Tribes.

91. Klawock Cooperative Association.

92. Kootenai Tribe of Idaho.

93. Lac Courte Oreilles Band of Lake Superior Chippewa.

94. Lac du Flambeau Band of Lake Superior Chippewa.

95. Lac Vieux Desert Band of Lake Superior Chippewa.

96. LaJolla Band of Luiseno Indians.

97. Lake Miwok Indian Nation of the Middletown Rancheria.

98. Las Vegas Paiute Tribe.

99. Leech Lake Band of Chippewa Indians.

100. Little River Band of Ottawa Chippewa.

101. Little Traverse Bay Bands of Odawa Indians.

102. Lower Brule Sioux Tribe.

103. Lower Sioux Indian Community.

104. Lummi Nation.

105. Lytton Band of Pomo Indians.

106. Manzanita Band of Mission Indians.

107. Mashantucket Pequot Tribe.

108. Mechoopda Indian Tribe of Chico Rancheria.

109. Menominee Indian Tribe of Wisconsin.

110. Mescalero Apache Tribe.

111. Miami Tribe of Oklahoma.

112. Mille Lacs Band of Chippewa Indians.

113. Mississippi Band of Choctaw Indians.

114. Moapa Band of Pauites.

115. Modoc Tribe of Oklahoma.

116. Mohegan Tribe of Indians of Connecticut.

117. Mooretown Rancheria.

118. Morongo Band of Mission Indians.

119. Muckleshoot Indian Tribe.

120. Muscogee (Creek) Nation.

121. Narragansett Indian Tribe.

122. Nez Perce Tribe.

123. Nisqually Indian Tribe.

124. Nooksack Indian Tribe.

125. Northern Arapaho Tribe of the Wind River Indians.

126. Northern Cheyenne Tribe.

127. Nottawaseppi Huron Band of Potawatomi.

128. Oglala Sioux Tribe.

129. Omaha Tribe of Nebraska.

130. Oneida Nation of New York.

131. Oneida Tribe of Indians of Wisconsin.

132. Ottawa Tribe of Oklahoma.

133. Pala Band of Mission Indians.

134. Pascua Yaqui Tribe of Arizona.

135. Paskenta Band of Nomlaki Indians.

136. Pauma-Yuima Band of Mission Indians.

137. Pawnee Tribe of Oklahoma.

138. Picayune Rancheria of the Chukchansi Indians.

139. Pit River Tribe.

140. Ponca Tribe of Nebraska.

141. Ponca Tribe of Oklahoma.

142. Port Gamble S'Klallam.

143. Prairie Band Potawatomi.

144. Prairie Island Indian Community.

145. Pueblo of Acoma.

146. Pueblo of Isleta.

147. Pueblo of Laguna.

148. Pueblo of Pojoaque.

149. Pueblo of San Felipe.

150. Pueblo of San Juan.

151. Pueblo of Sandia.

152. Pueblo of Santa Ana.

153. Pueblo of Santa Clara.

154. Pueblo of Taos.

155. Pueblo of Tesuque.

156. Puyallup Tribe of Indians.

157. Pyramid Lake Paiute Tribe.

158. Quapaw Tribe of Oklahoma.

159. Quechan Indian Tribe.

160. Quileute Indian Tribe.

161. Quinault Indian Nation.

162. Red Cliff Band of Lake Superior Chippewa.

163. Red Cliff, Sokaogon Chippewa and Lac Courte Oreilles Band.

164. Red Lake Band of Chippewa Indians.

165. Redding Rancheria.

166. Redwood Valley Rancheria.

167. Reno-Sparks Indian Colony.

168. Rincon San Luiseno Band of Mission Indians.

169. Robinson Rancheria of Pomo Indians.

170. Rosebud Sioux Tribe.

171. Round Valley Indian Tribes.

172. Rumsey Indian Rancheria.

173. Sac & Fox Tribe of Mississippi in Iowa.

174. Sac & Fox Nation of Missouri.

175. Saginaw Chippewa Indian Tribe.

176. Salt River Pima-Maricopa Indian Community.

177. San Carlos Apache Tribe.

178. San Manuel Band of Mission Indians.

179. San Pasqual Band of Indians.

180. Santa Rosa Band of Tachi Indians of the Santa Rosa.

181. Santa Ynez Band of Mission Indians.

182. Santa Ysabel Band of Mission Indians.

183. Santo Domingo Tribe.

184. Sauk-Suiattle Indian Tribe.

185. Sault Ste. Marie Tribe of Chippewa Indians.

186. Scotts Valley Band of Pomo Indians.

187. Seminole Tribe.

188. Shakopee Mdewakanton Sioux Community.

189. Sheep Ranch Tribe of We-Wuk Indians.

190. Sherwood Valley Rancheria.

191. Shingle Springs Band.

192. Shoalwater Bay Indian Tribe.

193. Shoshone-Bannock Tribes.

194. Sisseton-Wahpeton Sioux Tribe.

195. Skokomish Indian Tribe.

196. Smith River Rancheria.

197. Snoqualmie Tribe.

198. Soboba Band of Mission Indians.

199. Sokaogon Chippewa Community.

200. Southern Ute Indian Tribe.

201. Spirit Lake Sioux Nation.

202. Spokane Tribe of Indians.

203. Squaxin Island Tribe.

204. St. Croix Chippewa Indians of Wisconsin.

205. St. Regis Mohawk Tribe.

206. Standing Rock Sioux Tribe.

207. Stillaguamish Tribe of Indians.

208. Stockbridge-Munsee Community.

209. Suquamish Tribe.

210. Susanville Indian Rancheria.

211. Swinomish Indian Tribal Community.

212. Sycuan Band of Mission Indians.

213. Table Mountain Rancheria.

214. Temecula Band of Luiseno Mission Indians.

215. Three Affiliated Tribes of the Fort Berthold Reservation.

216. Tohono O'odham Nation.

217. Tonkawa Tribe of Oklahoma.

218. Tonto Apache Tribe.

219. Torres Martinez Desert Cahuilla Indians Tribe.

220. Trinidad Rancheria.

221. Tulalip Tribes of Washington.

222. Tule River Tribe of the Tule River Indian Reservation.

223. Tunica-Biloxi Tribe of Louisiana.

224. Tuolumne Band of MeWuk Indians.

225. Turtle Mountain Band of Chippewa Indians.

226. Twenty Nine Palms Band of Mission Indians.

227. Tyme Maidu Tribe of the Berry Creek Rancheria.

228. U-tu Utu Gwaitu Paiute Tribe of Benton Paiute Reservation.

229. United Auburn Indian Community of Auburn Rancheria.

230. Upper Sioux Community.

231. Upper Skagit Indian Tribe.

232. Ute Mountain Ute Tribe.

233. Washoe Tribe of Nevada and California.

234. White Earth Band of Chippewa Indians.

235. White Mountain Apache Tribe.

236. Winnebago Tribe of Nebraska.

237. Wyandotte Tribe of Oklahoma.

238. Yankton Sioux Tribe.

239. Yavapai Apache Tribe.

240. Yavapai-Prescott Indian Tribe.

241. Yurok Tribe.

Montie R. Deer,
Chairman, National Indian Gaming Commission.

[FR Doc. 02-21623 Filed 8-23-02; 8:45 am]

BILLING CODE 7565-02-P